DEPARTMENT OF COMMERCE

National Oceanic and Atmospheric Administration

[I.D. 052901C]

Pacific Fishery Management Council; Public Meeting

AGENCY: National Marine Fisheries Service (NMFS), National Oceanic and Atmospheric Administration (NOAA), Commerce.

ACTION: Notice of public meeting.

SUMMARY: The Pacific Fishery Management Council's (Council) Groundfish Stock Assessment Review (STAR) Panel will hold a work session to review assessment information for species in the “remaining rockfish” complex. This meeting is open to the public.

DATES: The STAR Panel for the “remaining rockfish” complex will meet beginning at 1 p.m. June 25, 2001 and continue through June 29, 2001. Except for Monday, June 25, 2001, the STAR Panel will meet each day from 8 a.m. to 5 p.m.

ADDRESSES: The STAR Panel will be held in the Large Conference Room (Room 188) at NMFS Southwest Fisheries Science Center, Santa Cruz Laboratory, 110 Shaffer Road, Santa Cruz, CA 95060; telephone: (831) 420-3900.

Council address: Pacific Fishery Management Council, 2130 SW Fifth Avenue, Suite 224, Portland, OR 97201.

FOR FURTHER INFORMATION CONTACT: Dan Waldeck, Staff Officer; telephone: (503) 326-6352.

SUPPLEMENTARY INFORMATION: The purpose of the meeting is to review assessments of black rockfish (in the southern area), yelloweye rockfish, and the first phase of a new method being developed for data poor rockfish species. The STAR Panel will work with stock assessment teams to make necessary revisions to the assessment documents and produce STAR Panel reports for use by the Council family and other interested persons.

Although non-emergency issues not contained in the STAR Panel agenda may come before the STAR Panel for discussion, those issues may not be the subject of formal panel action during this meeting. STAR Panel action will be restricted to those issues specifically listed in this notice, and any issues arising after publication of this notice that require emergency action under section 305 (c) of the Magnuson-Stevens Fishery Conservation and Management Act, provided the public has been notified of the panel's intent to take final action to address the emergency.

Special Accommodations

The meeting is physically accessible to people with disabilities. Requests for sign language interpretation or other auxiliary aids should be directed to Ms. Carolyn Porter at (503) 326-6352 at least 5 days prior to the meeting date.

Dated: May 30, 2001.
Richard W. Surdi,
Acting Director, Office of Sustainable Fisheries, National Marine Fisheries Service.

[FR Doc. 01-14125 Filed 6-4-01; 8:45 am]

BILLING CODE 3510-22-S